DEPARTMENT OF THE TREASURY

Submission for OMB Review; Comment Request

August 6, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 12, 2001 to be assured of consideration.

Financial Management Service (FMS)

OMB Number: 1510-0029.

Form Number: TFS 5118.

Type of Review: Reinstatement.

Title: Depositor's Application for Payment of Postal Savings Certificate.

Description: This form is prepared when a depositor has lost, destroyed, or misplaced his Postal Savings Certificates. Form properly completed and signed replaces unavailable certificates to support application for payment, if original certificates show up, documents prevents duplicate pay.

Respondents: Individuals or households.

Estimated Number of Respondents: 200.

Estimated Burden Hours Per Respondent: 15 minutes.

Frequency of Response: On occasion.

Estimated Total Reporting Burden: 50 hours.

Clearance Officer: Juanita Holder, Financial Management Service, 3700 East-West Highway, Room 144, PGP II, Hyattsville, MD 20782.

OMB Reviewer: Alexander T. Hunt (202) 395-7860, Office of Management and Budget, Room 10202, New Executive Office Building, Washington, DC 20503.

Lois K. Holland,
Departmental Reports, Management Officer.

[FR Doc. 01-20265 Filed 8-10-01; 8:45 am]

BILLING CODE 4810-35-P